NUCLEAR REGULATORY COMMISSION

[NRC-2019-0111]

Pre-Earthquake Planning, Shutdown, and Restart of a Nuclear Power Plant Following an Earthquake

AGENCY: Nuclear Regulatory Commission.

ACTION: Draft regulatory guide; request for comment.

SUMMARY: The U.S. Nuclear Regulatory Commission (NRC) is issuing for public comment draft regulatory guide (DG), DG-1337, “Pre-Earthquake Planning, Shutdown and Restart of a Nuclear Power Plant Following an Earthquake.” This proposed guide is a merger of two closely related guides, namely, regulatory guide (RG) 1.166, “Pre-Earthquake Planning and Immediate Nuclear Power Operator Postearthquake Actions” and RG 1.167 “Restart of a Nuclear Power Plant Shutdown by a Seismic Event.” Upon completion of the merger of the two guides, RG 1.167 will be withdrawn. DG-1337 incorporates lessons learned following shutdown and restart of nuclear power plants due to earthquake ground motion and post-earthquake evaluations since issuance of the two RGs in 1997.

DATES: Submit comments by August 13, 2019. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Website: Go to http://www.regulations.gov and search for Docket ID NRC-2019-0111. Address questions about Docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Vladmir Graizer, telephone: 301-415-0675, email: Vladimir.Graizer@nrc.gov, Thomas Weaver, telephone: 301-415-2823, email: Thomas.Weaver@nrc.gov, or Edward O'Donnell, telephone: 301-415-3317, email: Edward.O'Donnell@nrc.gov. All are staff members of the Office of Nuclear Regulatory Research, U.S. Nuclear Regulatory Commission, Washington, DC 20555-0001.

SUPPLEMENTARY INFORMATION:

I. Obtaining Information and Submitting Comments

A. Obtaining Information

Please refer to Docket ID NRC-2019-0111 when contacting the NRC about the availability of information regarding this action. You may obtain publicly available information related to this action, by any of the following methods:

• Federal Rulemaking Website: Go to http://www.regulations.gov and search for Docket ID NRC-2019-0111.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG-1337 is available in ADAMS under Accession No. ML18268A185.

• NRC's PDR: You may examine and purchase copies of public documents at the NRC's PDR, Room O1-F21, One White Flint North, 11555 Rockville Pike, Rockville, Maryland 20852.

B. Submitting Comments

Please include Docket ID NRC-2019-0111 in your comment submission. The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, titled, “Pre-Earthquake Planning, Shutdown and Restart of a Nuclear Power Plant Following a Seismic Event,” is a proposed revision of two related guides temporarily identified by its task number, DG-1337. The proposed guide merges RG 1.166, “Pre-Earthquake Planning and Immediate Nuclear Power Operator Postearthquake Actions” and RG 1.167 “Restart of a Nuclear Power Plant Shutdown by a Seismic Event.”

The guide proposes guidance acceptable to the NRC staff regarding pre-earthquake planning actions, actions to determine the need to shutdown a nuclear power plant and the short-term and long-term processes, inspections and tests that are acceptable to demonstrate that a nuclear power plant is safe for restarting after a shutdown due to an earthquake. The merged guide incorporates lessons learned following shutdown and restart of nuclear power plants due to earthquake ground motion and post-earthquake evaluations since issuance of the two RGs in 1997. The proposed guide also endorses American National Standards Institute/American Nuclear Society (ANSI/ANS)-2.23-2016, “Nuclear Power Plant Response to an Earthquake,” and ANSI/ANS-2.10-2017, “Criteria for Retrieval, Processing, Handling, and Storage of Records from Nuclear Facility Seismic Instrumentation.”

III. Backfitting and Issue Finality

As discussed in the “Implementation” section of DG-1337, the NRC has no current intention to impose this draft regulatory guide on holders of current operating licenses or combined licenses. Accordingly, the issuance of this draft regulatory guide, if finalized, would not constitute “backfitting” as defined in Title 10 of the Code of Federal Regulations (10 CFR) 50.109(a)(1) of the Backfit Rule or be otherwise inconsistent with the applicable issue finality provisions in 10 CFR part 52.

This draft regulatory guide may be applied to applications for operating licenses and combined licenses docketed by the NRC as of the date of issuance of the final regulatory guide, as well as future applications for operating licenses and combined licenses submitted after the issuance of the regulatory guide. Such action would not constitute backfitting as defined in 10 CFR 50.109(a)(1) or be otherwise inconsistent with the applicable issue finality provision in 10 CFR part 52, inasmuch as such applicants or potential applicants are not within the scope of entities protected by the Backfit Rule or the relevant issue finality provisions in 10 CFR part 52.

Dated at Rockville, Maryland, this 10th day of June, 2019.
For the Nuclear Regulatory Commission.
Thomas H. Boyce,
Chief, Regulatory Guidance and Generic Issues Branch, Division of Engineering, Office of Nuclear Regulatory Research.

[FR Doc. 2019-12556 Filed 6-13-19; 8:45 am]

BILLING CODE 7590-01-P